DEPARTMENT OF HEALTH AND HUMAN SERVICES

National Institutes of Health

National Human Genome Research Institute; Notice of Closed Meeting

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Human Genome Research Institute Special Emphasis Panel.

Date: December 16-17, 2004.

Time: December 16, 2004, 7 p.m. to 10 p.m.

Agenda: To review and evaluate grant applications.

Place: Stanford University, Stanford Terrace Inn, 531 Stanford Avenue, Palo Alto, CA 94306.

Time: December 17, 2004, 8 a.m. to 5 p.m.

Agenda: To review and evaluate grant applications.

Place: Stanford University, Stanford Terrace Inn, 531 Stanford Avenue, Palo Alto, CA 94306.

Contact Person: Ken D. Nakamura, PHD, Scientific Review Administrator, Office of Scientific Review, National Human Genome Research Institute, National Institutes of Health, Bethesda, MD 20892, (301) 402-0838.

This notice is being published less than 15 days prior to the meeting due to the timing limitations imposed by the review and funding cycle.

(Catalogue of Federal Domstic Assistance Program Nos. 93.172, Human Genome Research, National Institutes of Health, HHS)
Dated: December 14, 2004.
Anna P. Snouffer,
Acting Director, Office of Federal Advisory Committee Policy.

[FR Doc. 04-27779 Filed 12-17-04; 8:45 am]

BILLING CODE 4140-01-M